DEPARTMENT OF ENERGY

Federal Energy Regulatory Commission

[Project No. 4440-002]

Central Virginia Electric Cooperative, Harris Bridge Hydro LLC; Notice of Transfer of Exemption

1. On August 2, 2022, Central Virginia Electric Cooperative, exemptee for the 400-kilowatt Harris Bridge Hydroelectric Project No. 4440, filed a letter notifying the Commission that the project was transferred from Central Virginia Electric Cooperative to Harris Bridge Hydro LLC. The exemption from licensing was originally issued on March 15, 1982.¹ The project is located on the Rockfish River, Nelson County, Virginia. The transfer of an exemption does not require Commission approval.

¹ Rockfish Corporation, 18 FERC ¶ 62,449 (1982). On November 13, 2012, the project was transferred to Central Virginia Electric Cooperative.

2. Harris Bridge Hydro LLC is now the exemptee of the Harris Bridge Hydroelectric Project No. 4440. All correspondence must be forwarded to Mr. Frederic Reveiz, Managing Member, Harris Bridge Hydro LLC, 5425 Wisconsin Avenue, Suite 600, Chevy Chase, Maryland 20815, Phone: 202-361-2092, Email: Frederic.Reveiz@asilea.com.

Dated: February 27, 2023.
Kimberly D. Bose,
Secretary.

[FR Doc. 2023-04450 Filed 3-3-23; 8:45 am]

BILLING CODE 6717-01-P